SMALL BUSINESS ADMINISTRATION

Committee Management; Notice of Renewal

The Administrator of the U.S. Small Business Administration (SBA) has determined that the renewal of the National Women's Business Council is necessary and in the public interest in connection with the performance of duties imposed upon the Administrator, U.S. Small Business Administration by 15 U.S.C. 633. This determination follows consultation with the Management Secretariat, General Services Administration.

Name of Committee: National Women's Business Council.

Purpose and Objective: The Council shall make annual recommendations on policies and programs to promote the establishment and growth of women's business enterprise. The Council shall also provide reports on its activities and make such other recommendations as it deems appropriate to the Interagency Committee, the President, the SBA Administrator and to Congress.

Balanced Membership Plans: The Council consists of 15 members, including the Chairman. The Administrator, after receiving recommendations from the chair and ranking Members of the House and Senate Small Business Committees, shall, in consultation with the Council Chairman appoint remaining 14 members which, to the extent possible, reflect geographic (both urban and rural), racial, economic, and sectional diversity.

Duration: Continuing.

Responsible SBA Officials: Margaret Barton, Executive Director, National Women's Business Council, U.S. Small Business Administration, 409 3rd Street, SW., Washington, DC 20416.

Dated: December 19, 2005.
Matthew K. Becker,
Committee Management Officer.

[FR Doc. 05-24453 Filed 12-23-05; 8:45 am]

BILLING CODE 8025-01-M